DEPARTMENT OF TRANSPORTATION

Coast Guard

33 CFR Part 165

[CGD09-02-003]

RIN 2115-AA97

Safety Zones; Annual Fireworks Displays in the Captain of the Port Milwaukee Zone

AGENCY: Coast Guard, DOT.

ACTION: Notice of proposed rulemaking.

SUMMARY: The Coast Guard proposes to establish 29 permanent safety zones for annual fireworks displays throughout the Captain of the Port Milwaukee Zone. These safety zones are necessary to control vessel traffic within the immediate vicinity of the fireworks launch sites and to ensure the safety of life and property during each event. These safety zones are intended to restrict vessels from that area encompassed by the safety zone for the duration of each firework display.

DATES: Comments and related material must reach the Coast Guard on or before June 17, 2002.

ADDRESSES: You may mail or hand-deliver comments and related material to Commanding Officer, U.S. Coast Guard Marine Safety Office Milwaukee, 2420 South Lincoln Memorial Drive, Milwaukee, WI 53207. Marine Safety Office Milwaukee maintains the public docket for this rulemaking. Comments and material received from the public, as well as the documents indicated in this preamble as being available in the docket, will become part of this docket and will be available for inspection or copying at Marine Safety Office Milwaukee between 7 a.m. and 3:30 p.m. Monday through Friday, except Federal holidays.

FOR FURTHER INFORMATION CONTACT: LCDR Timothy Sickler, U.S. Coast Guard, Marine Safety Office Milwaukee, 2420 S. Lincoln Memorial Drive, Milwaukee, WI 53207, (414) 747-7155.

SUPPLEMENTARY INFORMATION:

Request for Comments

We encourage you to participate in this rulemaking by submitting comments and related material. If you do so, please include your name and address, identify the docket number for this rulemaking CGD09-02-003 and indicate the specific section or event of this proposal to which each comment applies, and give the reason for each comment. Please submit two copies of all comments and attachments in an unbound format, no larger than 8 1/2 by 11 inches, suitable for photocopying and electronic filing. If you would like to know they reached us, please enclose a stamped, self-addressed envelope or postcard. We will consider all comments and material received during the comment period. We may change this proposal in view of them.

Public Meeting

We do not plan to hold a public meeting. But you may submit a request for a meeting by writing to Marine Safety Office Milwaukee at the address listed under ADDRESSES explaining why one would be beneficial. If we determine that one would aid this rulemaking, we will hold one at a time and place announced by a later notice in the Federal Register.

Background and Purpose

Each year, various organizations in Wisconsin sponsor fireworks displays at the same locations during the same general time periods. Based on recent accidents that have occurred in other Captain of the Port zones, and the explosive hazard associated with these events, the Captain of the Port has determined that fireworks launches in close proximity to watercraft pose a significant risk to public safety and property. The likely combination of large numbers of inexperienced recreational boaters, congested waterways, darkness punctuated by bright flashes of light, alcohol use, and debris falling into the water could easily result in serious injuries or fatalities. Establishing a safety zone to control vessel movement will ensure the safety of persons and property at these events and help minimize the associated risk. In the past, the Captain of the Port has annually done separate temporary rulemaking for each firework event. This proposed rule merely consolidates past temporary rulemakings into one rulemaking, includes other events for the purpose of uniformity, and allows for a more thoughtful, timely rulemaking process. This rulemaking will create a permanent rule listing the safety zones for each fireworks launch platform used for each fireworks display.

Discussion of Proposed Rule

The Coast Guard is proposing to establish a safety zone around all annual fireworks events in the Captain of the Port Milwaukee area. The proposed size of these safety zones was determined by using the National Fire Protection Association standards.

The Coast Guard believes this proposed rule will not pose any additional problems for commercial vessels transiting the area. In the unlikely event that shipping is affected by these new regulations, commercial vessels may request permission from the Captain of the Port Milwaukee to transit through the safety zone. No commercial shipping lanes will be impacted as a result of this rulemaking.

The Coast Guard will announce the exact dates and times for these events by publishing a Notice of Implementation in the Federal Register as well as in the Ninth Coast Guard District Local Notice to Mariners, marine information broadcasts, and, for those who request it from Marine Safety Office Milwaukee, by facsimile (fax).

Regulatory Evaluation

This proposed rule is not a “significant regulatory action” under section 3(f) of Executive Order 12866 on Regulatory Planning and Review and therefore does not require an assessment of potential costs and benefits under section 6(a)(3) of that order. The Office of Management and Budget has not reviewed this rule under that order. It is not significant under Department of Transportation regulatory policies and procedures (DOT) (44 FR 11040, February 26, 1979). If comments are received to indicate otherwise, the Captain of the Port may reconsider this determination. The Coast Guard expects the economic impact of this proposed rule to be so minimal that a full Regulatory Evaluation under paragraph 10(e) of the regulatory policies and procedures of DOT is unnecessary. This determination is based on the minimal time that vessels will be restricted from the zone, and all of the zones are in areas where the Coast Guard expects insignificant adverse impact to mariners from the zones' activation.

Small Entities

In accordance with the Regulatory Flexibility Act (5 U.S.C. 601-612), the Captain of the Port Milwaukee has determined that this rule will not have a significant impact on a substantial number of small entities. The term “small entities” comprises small businesses, not-for-profit organizations that are independently owned and operated and are not dominant in their fields, and governmental jurisdictions with populations of less than 50,000.

The Coast Guard certifies under 5 U. S. C. 605(b) that this proposed rule would not have a significant economic impact on a substantial number of small entities. This proposed rule would affect the following entities, some of which might be small entities: the owners or operators of vessels intending to transit or anchor in a portion of an activated safety zone. The safety zone would not have a significant economic impact on a substantial number of small entities for the following reasons.

The zones would be in effect for only a few hours on the day of the event on an annual basis. Vessel traffic can safely pass outside of some of the proposed safety zones during the events. Although the safety zones for some events would apply to the entire navigation channel, traffic would be allowed to pass through the safety zone with the permission of the Coast Guard Patrol Commander.

Before the effective periods of the zones, the Coast Guard would issue a Notice of Implementation to be published in the Federal Register, and in the form of Maritime Broadcast Notice to Mariners, and upon request in printed or facsimile form, to operators of vessels who might be in the affected area. If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), the Coast Guard wants to assist small entities in understanding this rule so that they can better evaluate its effects and participate in the rulemaking process. If the rule would affect your small business, organization, or governmental jurisdiction and you have questions concerning its provisions or options for compliance, please contact Marine Safety Office Milwaukee (see ADDRESSES.)

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

The Coast Guard has analyzed this proposed rule under Executive Order 13045, Protection of Children from Environmental Health Risks and Safety Risks. This rule is not an economically significant rule and does not concern an environmental risk to health or risk to safety that may disproportionately affect children.

Environment

The Coast Guard has considered the environmental impact of this proposed rule and concluded that, under figure 2-1, paragraph 32(g) of Commandant Instruction M16475.1C, this proposed rule is categorically excluded from further environmental documentation. A written categorical exclusion determination is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reason discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.909 to read as follows:

§ 165.909 Safety Zones; Annual Fireworks Displays in the Captain of the Port Milwaukee Zone

(a) Safety zones. The following areas are designated safety zones. All geographic coordinates are North American Datum of 1983 (NAD83).

(1) Pridefest Fireworks—Milwaukee, WI. (i) Location. All waters off of Henry W. Maier Festival Park Harbor Island, outer Milwaukee Harbor from the point of origin at 43°02.209′ N, 087°53.714′ W; southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. Second week in June; sunset to termination of display.

(2) Summerfest Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. Last week in June; sunset to termination of display.

(3) Summerfest Hole-in-One Shoot/Stunt Shows. (i) Location. All waters of the Harbor Island Lagoon, outer Milwaukee Harbor from the point of origin at 43°02.50′ N, 087°53.78′ W′ then west to 43°02.50′ N, 087°53.85′ W; then following the shoreline of the Henry W. Maier Festival Park and Harbor Island back to the point of origin.

(ii) Expected date and time. Last week in June through the first two weeks in July; 11:30 a.m. to 9:15 p.m.

(4) Festa Italiana Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is also included in this safety zone.

(ii) Expected date and time. Third week in July; sunset to termination of display.

(5) Germanfest Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; southwest to 43°01.555′ N, 087°53.772′ W; the north following the shoreline back to the point of origin. The Harbor Island Lagoon Area is encompassed by this safety zone.

(ii) Expected date and time. Last full weekend in July; sunset to termination of display.

(6) African World Festival—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. First week in August; sunset to termination of display.

(7) Irishfest Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. Third week in August; sunset to termination of display.

(8) Mexican Fiesta Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. Last week in August; sunset to termination of display.

(9) Indian Summer Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. First week in September; sunset to termination of display.

(10) Arabianfest Fireworks—Milwaukee, WI. (i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin. The Harbor Island Lagoon Area is encompassed by this safety zone.

(ii) Expected date and time. Second week in September; sunset to termination of display.

(11) St. Patrick's Day Fireworks—Manitowoc. (i) Location. All waters and adjacent shoreline across from the World War II U.S. Cobia submarine, Manitowoc River encompassed by the arc of a circle with a 70-foot radius with its center in approximate position 44°05.30′ N, 087°39.15′ W.

(ii) Expected date and time. Third week in March; sunset to termination of display.

(12) Rockets for Schools—Sheboygan, WI. (i) Location. All waters and adjacent shoreline around the south breakwall area, Lake Michigan encompassed by the arc of a circle with a 1260-foot radius with its center in the approximate position 43°44.56′ N, 087°42.06′ W. This zone will encompass the entrance to Sheboygan Harbor and will result in its closure while the safety zone is in effect.

(ii) Expected date and time. Second weekend in May; sunset to termination of display.

(13) City of Sheboygan Fourth of July Fireworks. (i) Location. All waters and adjacent shoreline of Lake Michigan encompassed by the arc of a circle with an 840-foot radius with its center in the approximate position 43°44.48′ N, 087°42.14′ W . This zone will encompass the entrance to Sheboygan Harbor and will result in its closure while the safety zone is in effect.

(ii) Expected date and time. First week in July; sunset to termination of display.

(14) City of Kenosha Fourth of July Fireworks. (i) Location. All waters and adjacent shoreline around the South Pier Light area, Lake Michigan encompassed by the arc of a circle with an 840-foot radius with its center in approximate position 42°35.17′ N, 087°48.33′ W. This safety zone will encompass the entrance to Kenosha Harbor and will result in its closure while the safety zone is in effect.

(ii) Expected date and time. First week in July; sunset to termination of display.

(15) Firstar Fireworks—Milwaukee, WI. (i) Location. All waters and adjacent shoreline south of Juneau Park, outer Milwaukee Harbor encompassed by the arc of a circle with an 840-foot radius of the fireworks barge in approximate position 43°02.23′ N, 087°53.30′ W.

(ii) Expected date and time. First week in July; sunset to termination of display.

(16) Marinettefest Fireworks. (i) Location. All waters between the U.S. 41 Interstate Bridge (mile marker 1.88) and the NEW Hydro Inc. Dam (mile marker 2.45) on the Menominee River. This safety zone includes all adjacent shoreline between the bridge and the dam.

(ii) Expected date and time. First week in July; sunset to termination of display.

(17) Riversplash Fireworks—Milwaukee, WI. (i) Location. All waters and adjacent shoreline east of Pere Marquette Park, Milwaukee River encompassed by the arc of a circle with a 210-foot radius of the fireworks barge in approximate position 43°02.33′ N, 087°54.46′ W. This safety zone will temporarily close down the Milwaukee River.

(ii) Expected date and time. First week in July; sunset to termination of display.

(18) Manitowoc Municipal Fourth of July Fireworks. (i) Primary location. All waters and adjacent shoreline east of the Manitowoc Yacht Club, Lake Michigan encompassed by the arc of a circle with an 840-foot radius of the fireworks barge in approximate position 44°06.05′ N, 087°38.37′ W.

(ii) Alternate location. All waters and the adjacent shoreline encompassed by the arc of a circle with a 420-foot radius of the fireworks barge with its center in approximate position 44°05.33′ N, 087°39.00′ W. If display is moved to secondary site, it will temporarily close entrance to Manitowoc Harbor.

(iii) Expected Date and Time. First week in July; sunset to termination of display.

(19) Fourthfest of Greater Racine. (i) Primary location. All waters and adjacent shoreline around the north breakwall, Lake Michigan encompassed by the arc of a circle with a 560-foot radius with its center in approximate position 42°44.14′ N, 087°46.30′ W.

(ii) Alternate location. All waters and adjacent shoreline encompassed by the arc of a circle with a 560-foot radius with its center in approximate position 42°44.21′ N, 087°46.45′ W. (This point is on the beach north of the northern breakwall).

(iii) Expected date and time. First week in July; sunset to termination of display.

(20) Celebrate Amerifest—Green Bay, WI. (i) Location. All waters and adjacent shoreline between the Green Bay and Western Railroad Bridge (mile marker 1.03) and the Mason St. Bridge (mile marker 3.52) on the Fox River. This safety zone will temporarily close the Fox River. This safety zone does not encompass the water of the East River.

(ii) Expected date and time. First week in July; 2 p.m. to 11 p.m.

(21) South Shore Frolics Fireworks—Milwaukee, WI. (i) Location. All waters and adjacent shoreline east of South Shore Park, Milwaukee Harbor encompassed by the arc of a circle with a 280-foot radius with its center in approximate position 42°59.43′ N, 087°52.54′ W.

(ii) Expected date and time. Second week in July; sunset to termination of display.

(22) Kewaunee Annual Trout Festival. (i) Location. All waters and adjacent shoreline around the south breakwall area, Lake Michigan encompassed by the arc of a circle with a 560-foot radius with its center in approximate position 44°27.30′ N, 087°29.46′ W. This safety zone will temporarily close the entrance to Kewaunee Harbor.

(ii) Expected time and date. Third weekend in July; sunset to termination of display.

(23) Port Washington Fish Days Fireworks. (i) Location. All waters and adjacent shoreline around the Wisconsin Electric Coal Dock, Lake Michigan encompassed by the arc of a circle with an 840-foot radius with its center in approximate position 43°23.07′ N, 087°51.55′ W. This safety zone will temporarily close the entrance to Port Washington Harbor.

(ii) Expected date and time. Third week in July; sunset to termination of display.

(24) Menominee Waterfront Festival. (i) Location. All waters and adjacent shoreline off the southeast side of the Menominee Municipal Marina, Lake Michigan encompassed by the arc of a circle with an 840-foot radius of the fireworks launch platform with its center in approximate position 45°20.05′ N, 087°36.49′ W.

(ii) Expected date and time. The Saturday following the first Thursday in August; sunset to termination of display.

(25) Sturgeon Bay Venetian Night Fireworks. (i) Location. All waters and adjacent shoreline off the Sturgeon Bay Yacht Club, Sturgeon Bay Canal encompassed by the arc of a circle with a 350-foot radius of the fireworks launch platform with its center in approximate position 44°49.33′ N, 087°23.27′ W. This safety zone will temporarily close down the Sturgeon Bay Canal.

(ii) Expected date and time. First weekend in August; 10 a.m. to termination of fireworks display.

(26) Algoma Shanty Days Fireworks. (i) Primary location. All waters and adjacent shoreline around the south breakwall area, Lake Michigan encompassed by the arc of a circle with a 560-foot radius with its center in approximate position 44°36.22′ N, 087°25.55′ W forming the primary site.

(ii) Alternate location. All waters and adjacent shoreline encompassed by the arc of a circle with a 560-foot radius with its center in approximate position 44°36.28′ N, 087°25.54′ W. If the display is moved to secondary site, the safety zone will temporarily close entrance to Algoma Harbor.

(iii) Expected time and date. Second week in August; sunset to termination of display.

(27) Sister Bay MarinaFest—Sister Bay. (i) Location. All waters and adjacent shoreline off the town of Sister Bay, Lake Michigan encompassed by the arc of a circle with a 560-foot radius of the fireworks launch platform with its center in approximate position 45°10.60′ N, 087°06.60′ W.

(ii) Expected date and time. First week in September; sunset to termination of display.

(28) Milwaukee River Challenge—Milwaukee, WI. (i) Location. All waters and adjacent shoreline between the Humboldt Ave. Bridge (mile marker 3.22) and E. Chicago St. (mile marker 1.08) on the Milwaukee River. This safety zone will temporarily close the Milwaukee River for crew boat races.

(ii) Expected date and time. Third week in September; 10 a.m. to 5 p.m.

(29) Sheboygan South High School Homecoming Fireworks. (i) Location. All waters and adjacent shoreline around the south breakwall area, Lake Michigan encompassed by the arc of a circle with a 420-foot radius with its center in approximate position 43°44.57′ N, 087°42.13′ W. This safety zone will temporarily close the entrance to Sheboygan Harbor.

(ii) Expected date and time. One day in the first two weeks in October; sunset to termination of display.

(b) Regulations. (1) The general regulations contained in 33 CFR 165.23 apply.

(2) All persons and vessels shall comply with the instructions of the Coast Guard Captain of the Port or the designated on scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

(3) In cases where shipping is affected, commercial vessels may request permission from the Captain of the Port Milwaukee to transit the safety zone. Approval in such cases will be case-by-case. Requests must be made in advance and approved by the Captain of the Port before transits will be authorized. The Captain of the Port may be contacted via U.S. Coast Guard Group Milwaukee on Channel 16, VHF-FM.

(c) Captain of the Port Milwaukee will announce the exact time and location of the annual events listed in this regulation by Notice of Implementation, Broadcast Local Notice to Mariners, or any other means deemed appropriate.

Dated: April 1, 2002.
M.R. DeVries,
Commander, U.S. Coast Guard, Captain of the Port, Milwaukee.

[FR Doc. 02-9417 Filed 4-17-02; 8:45 am]

BILLING CODE 4910-15-U